DEPARTMENT OF HEALTH AND HUMAN SERVICES

Food and Drug Administration

21 CFR Part 558

New Animal Drugs for Use in Animal Feeds; Lasalocid; Correction

AGENCY: Food and Drug Administration, HHS.

ACTION: Final rule; correction.

SUMMARY: The Food and Drug Administration (FDA) is correcting a document amending the animal drug regulations to reflect approval of a supplemental new animal drug application (NADA) that appeared in the Federal Register of June 19, 2003 (68 FR 36744). FDA is correcting the amount of monocalcium phosphate in the formula for a free-choice, loose mineral Type C medicated feed containing lasalocid that was entered inaccurately. This correction is being made so the lasalocid regulations accurately reflect the approved formula.

DATES: This rule is effective June 19, 2003.

FOR FURTHER INFORMATION CONTACT: George K. Haibel, Center for Veterinary Medicine (HFV-6), Food and Drug Administration, 7519 Standish Pl., Rockville, MD 20855, 301-827-4567, e-mail: ghaibel@cvm.fda.gov.

SUPPLEMENTARY INFORMATION: In FR Doc. 03-15541, published on June 19, 2003 (68 FR 36744), the following correction is made:

§ 558.311 [Corrected]

On page 36745, in the first column, in the table in § 558.311 Lasalocid in paragraph (e)(4)(i), in the row for “Monocalcium Phosphate” the entry in the “Percent” column is corrected to read “57.70”.

Dated: August 7, 2003.
David R. Newkirk,
Acting Director, Office of New Animal Drug Evaluation, Center for Veterinary Medicine.

[FR Doc. 03-21750 Filed 8-25-03; 8:45 am]

BILLING CODE 4160-01-S